DEPARTMENT OF COMMERCE

International Trade Administration

[A-552-817]

Certain Oil Country Tubular Goods From the Social Republic of Vietnam: Final Results of Antidumping Duty Administrative Review; 2018-2019

AGENCY: Enforcement and Compliance, International Trade Administration, Department of Commerce.

SUMMARY: The Department of Commerce (Commerce) finds that exporters of oil country tubular goods (OCTG) from the Socialist Republic of Vietnam (Vietnam) did not sell subject merchandise in the United States at prices below normal value during the period of review (POR) September 1, 2018, through August 31, 2019.

DATES: Applicable August 3, 2021.

FOR FURTHER INFORMATION CONTACT: Fred Baker, AD/CVD Operations, Office VI, Enforcement and Compliance, International Trade Administration, U.S. Department of Commerce, 1401 Constitution Avenue NW, Washington, DC 20230; telephone: (202) 482-2924.

SUPPLEMENTARY INFORMATION:

Background

Commerce is conducting an administrative review of the antidumping duty order on OCTG from Vietnam in accordance with section 751(a) of the Tariff Act of 1930, as amended (the Act). On January 28, 2021, Commerce published the Preliminary Results of this administrative review.¹ On March 10, 2021, we received case briefs from Maverick Tube Corporation, Tenaris Bay City, Inc., and IPSCO Tubulars, Inc. (the petitioners) and from SeAH Steel VINA Corporation SeAH VINA and Pusan Pipe America, Inc. (Pusan Pipe) (collectively, SSV).² On March 17, 2021, the petitioners and SSV submitted rebuttal briefs.³ On May 18, 2021, we extended the deadline for the final results of review until July 27, 2021.⁴

¹ See Certain Oil Country Tubular Goods from the Socialist Republic of Vietnam: Preliminary Results of Antidumping Duty Administrative Review, 86 FR 7358 (January 28, 2021) (Preliminary Results), and accompanying Preliminary Decision Memorandum.

² See Petitioners' Letter, “Oil Country Tubular Goods from the Socialist Republic of Vietnam: Case Brief of Maverick Tube Corporation, Tenaris Bay City, Inc., and IPSCO Tubulars Inc.,” dated March 10, 2021; SSV's Case Brief, “Administrative Review of the Antidumping Duty Order on Certain Oil Country Tubular Goods from Vietnam—Case Brief of SeAH Steel VINA Corporation and Pusan Pipe America, Inc.,” dated March 10, 2021.

³ See Petitioners' Letter, “Oil Country Tubular Goods from the Socialist Republic of Vietnam: Rebuttal Brief of Maverick Tube Corporation, Tenaris Bay City, Inc., and IPSCO Tubulars Inc.,” dated March 17, 2021; SSV Rebuttal Brief, “Administrative Review of the Antidumping Duty Order on Certain Oil Country Tubular Goods from Vietnam—Rebuttal Brief of SeAH Steel VINA Corporation and Pusan Pipe America, Inc.,” dated March 17, 2021.

⁴ See Memorandum, “Oil Country Tubular Goods from the Socialist Republic of Vietnam: Extension of Deadline for Final Results of Antidumping Duty Administrative Review,” dated May 18, 2021.

For a complete description of the events that followed the Preliminary Results of this administrative review, see the Issues and Decision Memorandum, dated concurrently with these final results and hereby adopted by this notice.⁵ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly on the internet at http://enforcement.trade.gov/frn/index.html.

⁵ See Memorandum, “Issues and Decision Memorandum for the Final Results of the 2018-2019 Administrative Review of the Antidumping Duty Order on Oil Country Tubular Goods from the Socialist Republic of Vietnam,” dated concurrently with this notice (Issues and Decision Memorandum).

Scope of the Order

The merchandise covered by the order is OCTG from Vietnam. For a full description of the merchandise covered by the scope of the antidumping duty order on OCTG from Vietnam, see the Issues and Decision Memorandum.

Analysis of Comments Received

We addressed all issues raised in the case and rebuttal briefs filed by interested parties in the Issues and Decision Memorandum. Attached to this notice as an appendix is a list of the issues which parties raised.

Verification

Commerce was unable to conduct an on-site verification of the information relied upon in reaching these final results of review as provided for in section 782(i)(3) of the Act. Accordingly, in lieu of an on-site verification, we requested additional documentation and information from SSV.⁶

⁶ See Commerce's Letter, dated February 19, 2021; see also SSV's Letter, “Administrative Review of the Antidumping Duty Order on Oil Country Tubular Goods from Vietnam—Response to the Department's February 19 In Lieu of Verification Questionnaire,” dated February 26, 2021.

Changes Since the Preliminary Results

Based on our analysis of the comments received, we made certain changes to the margin calculation. For a discussion of the issues, see the Issues and Decision Memorandum.

Final Results of Review

Commerce determines that the following weighted-average dumping margin exists for the period September 1, 2018, through August 31, 2019:

Exporter | Weighted- average dumping margin (percent)
SeAH Steel VINA Corporation ⁷ | 0.00

Disclosure

⁷ Commerce initiated a review of both SeAH VINA and Pusan Pipe, but the record shows that Pusan Pipe is a U.S. importer of OCTG that is affiliated with SeAH VINA and does not produce or export OCTG. See SSV's Letter, “Administrative Review of the Antidumping Duty Order on Certain Oil Country Tubular Goods from Vietnam—Response to the Department's November 15 Questionnaire,” dated December 13, 2019 at 1. Therefore, we have not calculated a rate for Pusan Pipe.

Commerce intends to disclose the calculations performed for these final results of review within five days of the date of publication of this notice in the Federal Register, in accordance with 19 CFR 351.224(b).

Assessment

Pursuant to section 751(a)(2)(C) of the Act and 19 CFR 351.212(b)(1), Commerce has determined, and U.S. Customs and Border Protection (CBP) shall assess, antidumping duties on all appropriate entries of subject merchandise in accordance with the final results of this review.

Consistent with Commerce's assessment practice in non-market economy cases, for entries that were not reported in the U.S. sales database submitted by companies individually examined during the administrative review, Commerce will instruct CBP to liquidate such entries at the Vietnam-wide rate. Additionally, if Commerce determines that an exporter under review had no shipments of subject merchandise, any suspended entries that entered under the exporter's case number (i.e., at that exporter's rate) will be liquidated at the Vietnam-wide rate.⁸

⁸ See Non-Market Economy Antidumping Proceedings: Assessment of Antidumping Duties, 76 FR 65694 (October 24, 2011).

Consistent with its recent notice,⁹ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁹ See Notice of Discontinuation Policy to Issue Liquidation Instructions After 15 Days in Applicable Antidumping and Countervailing Duty Administrative Proceedings, 86 FR 3995 (January 15, 2021).

Cash Deposit Requirements

The following cash deposit requirements will be effective upon publication of the final results of this administrative review for all shipments of the subject merchandise from Vietnam entered, or withdrawn from warehouse, for consumption on or after the publication date, as provided for by section 751(a)(2)(C) of the Act: (1) For SeAH VINA, a zero cash deposit rate; (2) for previously investigated or reviewed Vietnamese and non-Vietnamese exporters not listed above that received a separate rate in a prior segment of this proceeding, the cash deposit rate will continue to be the exporter-specific rate published for the most-recently completed segment of this proceeding in which the exporter was reviewed; (3) for all Vietnamese exporters of subject merchandise which have not been found to be entitled to a separate rate, the cash deposit rate will be the rate established for the Vietnam-wide entity, which is 111.47 percent; ¹⁰ and (4) for all non-Vietnamese exporters of subject merchandise which have not received their own rate, the cash deposit rate will be the rate applicable to the Vietnamese exporter that supplied that non-Vietnamese exporter with the subject merchandise. These deposit requirements, when imposed, shall remain in effect until further notice.

¹⁰ See Certain Oil Country Tubular Goods from India, the Republic of Korea, Taiwan, the Republic of Turkey, and the Socialist Republic of Vietnam: Antidumping Duty Orders; and Certain Oil Country Tubular Goods from the Socialist Republic of Vietnam: Amended Final Determination of Sales at Less Than Fair Value, 79 FR 53691 (September 10, 2014).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing this notice in accordance with sections 751(a)(1) and 777(i)(1) of the Act, and 19 CFR 351.221(b)(5).

Dated: July 27, 2021.
Christian Marsh,
Acting Assistant Secretary for Enforcement and Compliance.

Appendix

List of Topics Discussed in the Issues and Decision Memorandum

I. Summary

II. Background

III. Scope of the Order

IV. Changes Since the Preliminary Results

V. Discussion of the Issues

Comment 1: Adverse Facts Available

Comment 2: Surrogate Country

Comment 3: Financial Statements

Comment 4: Brokerage and Handling

Comment 5: Inland Freight

Comment 6: Differential Pricing

Comment 7: Water

Comment 8: Section 232 Duties

Comment 9: Ministerial Errors

VI. Recommendation

[FR Doc. 2021-16474 Filed 8-2-21; 8:45 am]

BILLING CODE 3510-DS-P